DEPARTMENT OF ENERGY

Federal Energy Regulatory Commission

Combined Notice of Filings

Take notice that the Commission has received the following Natural Gas Pipeline Rate and Refund Report filings:

Filings Instituting Proceedings

Docket Numbers: CP13-513-000.

Applicants: Dominion Transmission, Inc.

Description: Application of Dominion Transmission, Inc. for Abandonment of Rate Schedule X-69.

Filed Date: 7/02/13.

Accession Number: 20130702-5223.

Comments Due: 5 p.m. ET 7/22/13.

Docket Numbers: CP13-517-000.

Applicants: National Fuel Gas Supply Corporation.

Description: Application Pursuant to Section 7(b) for Permission and Approval to Abandon Rate Schedule X-51 submitted by National Fuel Gas Supply Corporation.

Filed Date: 7/08/13.

Accession Number: 20130708-5163.

Comments Due: 5 p.m. ET 7/22/13.

Docket Numbers: CP13-518-000.

Applicants: UGI Penn Natural Gas, Inc.

Description: Application of UGI Penn Natural Gas, Inc for a limited jurisdiction blanket certificate of public convenience and necessity etc.

Filed Date: 7/08/13.

Accession Number: 20130709-0021.

Comments Due: 5 p.m. ET 7/22/13.

Docket Numbers: RP13-1060-000.

Applicants: Maritimes & Northeast Pipeline, L.L.C.

Description: Maritimes & Northeast Pipeline, L.L.C. submits tariff filing per 154.203: ACA Compliance Filing—Docket No. RM12-14-000; Order No. 776 to be effective 10/1/2013.

Filed Date: 7/11/13.

Accession Number: 20130711-5043.

Comments Due: 5 p.m. ET 7/23/13.

Docket Numbers: RP13-1061-000.

Applicants: Ozark Gas Transmission, L.L.C.

Description: Ozark Gas Transmission, L.L.C. submits tariff filing per 154.203: ACA Compliance Filing—Docket No. RM12-14-000; Order No. 776 to be effective 10/1/2013.

Filed Date: 7/11/13.

Accession Number: 20130711-5044.

Comments Due: 5 p.m. ET 7/23/13.

Docket Numbers: RP13-1062-000.

Applicants: Saltville Gas Storage Company L.L.C.

Description: Saltville Gas Storage Company L.L.C. submits tariff filing per 154.203: ACA Compliance Filing—Docket No. RM12-14-000; Order No. 776 to be effective 10/1/2013.

Filed Date: 7/11/13.

Accession Number: 20130711-5048.

Comments Due: 5 p.m. ET 7/23/13.

Docket Numbers: RP13-1063-000.

Applicants: Southeast Supply Header, LLC.

Description: ACA Compliance Filing—Docket No. RM12-14-000; Order No. 776 to be effective 10/1/2013.

Filed Date: 7/11/13.

Accession Number: 20130711-5050.

Comments Due: 5 p.m. ET 7/23/13.

Docket Numbers: RP13-1064-000.

Applicants: Steckman Ridge, LP.

Description: ACA Compliance Filing—Docket No. RM12-14-000; Order No. 776 to be effective 10/1/2013.

Filed Date: 7/11/13.

Accession Number: 20130711-5052.

Comments Due: 5 p.m. ET 7/23/13.

Docket Numbers: RP13-1065-000.

Applicants: Texas Eastern Transmission, LP.

Description: ACA Compliance Filing—Docket No. RM12-14-000; Order No. 776 to be effective 10/1/2013.

Filed Date: 7/11/13.

Accession Number: 20130711-5053.

Comments Due: 5 p.m. ET 7/23/13.

Docket Numbers: RP13-1066-000.

Applicants: TWP Pipeline LLC.

Description: TWP Compliance Filing to be effective 5/24/2013.

Filed Date: 7/11/13.

Accession Number: 20130711-5084.

Comments Due: 5 p.m. ET 7/23/13.

Docket Numbers: RP13-1067-000.

Applicants: Cameron Interstate Pipeline, LLC.

Description: Cameron Interstate Pipeline LLC Annual Charge Adjustment Tariff Filing 2013 to be effective 10/1/2013.

Filed Date: 7/11/13.

Accession Number: 20130711-5109.

Comments Due: 5 p.m. ET 7/23/13.

Docket Numbers: RP13-1068-000.

Applicants: LA Storage, LLC.

Description: LA Storage, LLC ACA Tariff Filing 2013 to be effective 10/1/2013.

Filed Date: 7/11/13.

Accession Number: 20130711-5118.

Comments Due: 5 p.m. ET 7/23/13.

Docket Numbers: RP13-1069-000.

Applicants: Rockies Express Pipeline LLC.

Description: Neg Rate 2013-07-11 EOG NC NRA to be effective 7/12/2013.

Filed Date: 7/11/13.

Accession Number: 20130711-5128.

Comments Due: 5 p.m. ET 7/23/13.

Docket Numbers: RP13-1070-000.

Applicants: Tallgrass Interstate Gas Transmission, L.

Description: Neg Rate 07-11-13 MGE to be effective 7/12/2013.

Filed Date: 7/11/13.

Accession Number: 20130711-5129.

Comments Due: 5 p.m. ET 7/23/13.

Docket Numbers: RP13-1071-000.

Applicants: Cimarron River Pipeline, LLC.

Description: Cash Out Refund Report for Cimarron River Pipeline, LLC.

Filed Date: 7/11/13.

Accession Number: 20130711-5141.

Comments Due: 5 p.m. ET 7/23/13.

Docket Numbers: RP13-1072-000.

Applicants: Eastern Shore Natural Gas Company.

Description: General Terms and Conditions Tariff Revisions to be effective 8/11/2013.

Filed Date: 7/11/13.

Accession Number: 20130711-5182.

Comments Due: 5 p.m. ET 7/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2013.
Nathaniel J. Davis, Sr.,
Deputy Secretary.

[FR Doc. 2013-17367 Filed 7-18-13; 8:45 am]

BILLING CODE 6717-01-P